DEPARTMENT OF DEFENSE

Office of the Secretary

[Docket ID: DoD-2008-OS-0152]

Privacy Act of 1974; System of Records

AGENCY: Office of the Secretary, DoD.

ACTION: Notice to amend a system of records notice.

SUMMARY: The Office of the Secretary of Defense is amending a system of records notice in its existing inventory of record systems subject to the Privacy Act of 1974, (5 U.S.C. 552a), as amended.

DATES: This proposed action will be effective without further notice on January 5, 2009 unless comments are received which result in a contrary determination.

ADDRESSES: Send comments to the Privacy Act Officer, Office of Freedom of Information, Washington Headquarters Services, 1155 Defense Pentagon, Washington, DC 20301-1155.

FOR FURTHER INFORMATION CONTACT: Mrs. Cindy Allard at (703) 588-2386.

SUPPLEMENTARY INFORMATION: The Office of the Secretary of Defense systems of records notices subject to the Privacy Act of 1974, (5 U.S.C. 552a), as amended, have been published in the Federal Register and are available from the address above.

The specific changes to the record systems being amended are set forth below followed by the notice, as amended, published in its entirety. The proposed amendments are not within the purview of subsection (r) of the Privacy Act of 1974, (5 U.S.C. 552a), as amended, which requires the submission of a new or altered system report.

Dated: November 25, 2008.
Morgan E. Frazier,
Alternate OSD Federal Register Liaison Officer, Department of Defense.

DoDEA 21

Department of Defense Education Activity (DODEA) Grievance Records (August 15, 2006, 71 FR 46895).

Changes:

* * * * *

System name:

Delete entry and replace with “Department of Defense Education Activity (DoDEA) Labor and Employment Grievance Records.”

* * * * *

Categories of individuals covered by the system:

Delete entry and replace with “Current or former employees who have submitted grievances in accordance with 5 U.S.C. 2302, Prohibited personnel practices; 5 U.S.C. 7121, Grievance procedures or 5 CFR 771, Administrative practice and procedure, Government employees; and DoD Education Activity 5771.9, Administrative Grievance Procedures.”

* * * * *

Authority for maintenance of the system:

Delete entry and replace with “5 U.S.C. 1221, 2302, 7121 and 7532; 10 U.S.C. 2164, Department of Defense domestic dependent elementary and secondary schools; 20 U.S.C. 901-907, Overseas Teachers Pay Act; 20 U.S.C. 931, Regulations; issuance and contents; 5 CFR 771, Administrative practice and procedure, Government employees; DoD Directive 1342.20, Department of Defense Education Activity; DoD Education Activity 5771.9, Administrative Grievance Procedures and E.O. 9397 (SSN).”

Purpose(s):

Delete entry and replace with “To maintain records for use by management in resolving employee grievances.

To generate statistical reports, work force studies, and perform other analytical activities supporting personnel management functions of DoD Education Activity.”

Routine uses of records maintained in the system, including categories of users and the purposes of such uses:

Delete entry and replace with “In addition to those disclosures generally permitted under 5 U.S.C. 552a(b) of the Privacy Act, these records or information contained therein may specifically be disclosed outside the DoD as a routine use pursuant to 5 U.S.C. 552a(b)(3) as follows:

To the Merit Systems Protection Board (MSPB), the Merit System Protection Board Office of Special Counsel, arbitrators appointed under DoD Education Activity collective bargaining agreements, the Federal Labor Relations Authority, the Department of Justice, the Offices of the United States Attorneys, alternate dispute resolutions specialists, and the Federal courts for purposes related to, or incident to, the adjudication or litigation of the grievance.

The DoD ‘Blanket Routine Uses’ set forth at the beginning of OSD's compilation of systems of records notices apply to this system.”

* * * * *

Safeguards:

Delete entry and replace with “Access is provided on a ‘need-to-know' basis and to authorized authenticated personnel only. Records are maintained in controlled access rooms or areas. Computer terminal access is controlled by terminal identification and the password or similar system. Password authorization, assignment, and monitoring are the responsibility of the functional managers.”

* * * * *

DoDEA 21

System name:

Department of Defense Education Activity (DoDEA) Labor and Employment Grievance Records (August 15, 2006, 71 FR 46895).

System location:

Department of Defense Education Activity, 4040 North Fairfax Drive, Arlington, VA 22203-1634.

Categories of individuals covered by the system:

Current or former employees who have submitted grievances in accordance with 5 U.S.C. 2302, Prohibited personnel practices; 5 U.S.C. 7121, Grievance procedures or 5 CFR 771, Administrative practice and procedure, Government employees; and DoD Education Activity 5771.9, Administrative Grievance Procedures.

Categories of records in the system:

The system contains records relating to grievances and arbitrations filed by DoD Education Activity employees with the Agency, with the Office of Special Counsel, the Office of Personnel Management, or the Federal Labor Relations Authority. Includes records relating to the identity of third parties, pleadings, statements of witnesses, investigative reports, interviews, hearings, hearing examiner's findings and recommendations, copies of decisions relating to the grievance, and other relevant correspondence and exhibits.

Authority for maintenance of the system:

5 U.S.C. 1221, 2302, 7121 and 7532; 10 U.S.C. 2164, Department of Defense domestic dependent elementary and secondary schools; 20 U.S.C. 901-907, Overseas Teachers Pay Act; 20 U.S.C. 931, Regulations; issuance and contents; 5 CFR 771, Administrative practice and procedure, Government employees; DoD Directive 1342.20, Department of Defense Education Activity; DoD Education Activity 5771.9, Administrative Grievance Procedures and E.O. 9397 (SSN).

Purpose(s):

To maintain records for use by management in resolving employee grievances.

To generate statistical reports, work force studies, and perform other analytical activities supporting personnel management functions of DoD Education Activity.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the Merit Systems Protection Board (MSPB), the Merit System Protection Board Office of Special Counsel, arbitrators appointed under DoD Education Activity collective bargaining agreements, the Federal Labor Relations Authority, the Department of Justice, the Offices of the United States Attorneys, alternate dispute resolutions specialists, and the Federal courts for purposes related to, or incident to, the adjudication or litigation of the grievance.

The DoD `Blanket Routine Uses' set forth at the beginning of OSD's compilation of systems of records notices apply to this system.

Policies and practices for storing, retrieving, accessing, retaining, and disposing of records in the system:

Storage:

Paper records and electronic records.

Retrievability:

Names of the individuals initiating grievance procedures, case number, and by subject matter.

Safeguards:

Access is provided on a `need-to-know' basis and to authorized authenticated personnel only. Records are maintained in controlled access rooms or areas. Computer terminal access is controlled by terminal identification and the password or similar system. Password authorization, assignment, and monitoring are the responsibility of the functional managers.

Retention and disposal:

Records are destroyed 4 years after the case is closed.

System manager(s) and address:

Chief, Labor-Management & Employee Relations Branch, Human Resources Regional Service Center, Department of Defense Education Activity, 4040 North Fairfax Drive, Arlington, VA 22203-1634.

Notification procedure:

Individuals seeking to determine whether information about themselves is contained in this system should address written inquiries to the Privacy Act Officer, Department of Defense Education Activity, 4040 North Fairfax Drive, Arlington, VA 22203-1634.

Written requests for information should contain the full name and address of the individual, and must be signed.

Record access procedures:

Individuals seeking access to information about themselves contained in this system should address written inquiries to the OSD/JS FOIA Requester Service Center, Office of the Freedom of Information, Washington Headquarters Services, 1155 Defense Pentagon, Washington, DC 20301-1155.

Written requests should contain the full name, Social Security Number (SSN), date of birth, and current address and telephone number of the individual.

Individuals should provide the name and number of this system of records notice so that your request can be tasked to the appropriate OSD/JS office. This section must also include a description of needed identifier so that the record may be retrieved.

Contesting record procedures:

The OSD rules for accessing records, for contesting contents and appealing initial agency determinations are published in OSD Administrative Instruction 81; 32 CFR part 311; or may be obtained from the Privacy Act Officer, Office of Freedom of Information, Washington Headquarters Services, 1155 Defense Pentagon, Washington, DC 20301-1155.

Record source categories:

Individuals who have initiated a grievance; witness statements or testimony; agency officials; labor organization representatives; arbitrators, hearing officials and administrative law judges; officials in the Merit Service Protection Board Office of Special Counsel; and by officials of the Federal Labor Relations Authority or Merit Systems Protection Board.

Exemptions claimed for the system:

None.

[FR Doc. E8-28762 Filed 12-3-08; 8:45 am]

BILLING CODE 5001-06-P